DEPARTMENT OF ENERGY

Federal Energy Regulatory Commission

Combined Notice of Filings # 1

October 28, 2008.

Take notice that the Commission received the following exempt wholesale generator filings:

Docket Numbers: EG09-5-000.

Applicants: Barton Windpower II LLC.

Description: Notice of Self-Certification of Exempt Wholesale Generator Status—Barton Windpower II LLC under EG09-5.

Filed Date: 10/28/2008

Accession Number: 20081028-5039.

Comment Date: 5 p.m. Eastern Time on Tuesday, November 18, 2008.

Docket Numbers: EG09-6-000.

Applicants: Barton Windpower LLC.

Description: Notice of Self-Certification of Exempt Wholesale Generator Status—Barton Windpower LLC under EG09-6.

Filed Date: 10/28/2008.

Accession Number: 20081028-5040.

Comment Date: 5 p.m. Eastern Time on Tuesday, November 18, 2008.

Docket Numbers: EG09-7-000

Applicants: Elm Creek Wind, LLC.

Description: Notice of Self-Certification of Exempt Wholesale Generator Status of Elm Creek Wind, LLC in EG09-7.

Filed Date: 10/28/2008.

Accession Number: 20081028-5041.

Comment Date: 5 p.m. Eastern Time on Tuesday, November 18, 2008.

Docket Numbers: EG09-8-000.

Applicants: Farmers City Wind, LLC.

Description: Notice of Self-Certification of Exempt Wholesale Generator Status—Farmers City Wind, LLC under EG09-8.

Filed Date: 10/28/2008.

Accession Number: 20081028-5042.

Comment Date: 5 p.m. Eastern Time on Tuesday, November 18, 2008.

Take notice that the Commission received the following electric rate filings:

Docket Numbers: ER97-4345-024; ER98-511-012.

Applicants: OGE Energy Resources, Inc.; Oklahoma Gas and Electric Company.

Description: Oklahoma Gas and Electric Co et al. submits a Notice of Non-Material Change in Status in compliance with Order 652 and 697.

Filed Date: 10/27/2008.

Accession Number: 20081027-0187.

Comment Date: 5 p.m. Eastern Time on Monday, November 17, 2008.

Docket Numbers: ER08-831-003.

Applicants: Progress Energy, Inc.

Description: Progress Energy, Inc et al. informs that they submitted a compliance filing in the Section 205 filing ( Correction) proceeding which concerns various amendments to the Joint Open Access Transmission Tariff of CP&L and FPC.

Filed Date: 10/24/2008.

Accession Number: 20081027-0130.

Comment Date: 5 p.m. Eastern Time on Friday, November 14, 2008.

Docket Numbers: ER08-1016-002.

Applicants: PJM Interconnection, L.L.C.

Description: PJM electronically filed an informational filing to the Commission's July 25, 2008 Order directing a further compliance filing, in ER08-1016.

Filed Date: 10/23/2008.

Accession Number: 20081023-5094.

Comment Date: 5 p.m. Eastern Time on Thursday, November 13, 2008.

Docket Numbers: ER08-1460-001.

Applicants: Arizona Public Service Company.

Description: Request of Arizona Public Service Company.

Filed Date: 10/27/2008.

Accession Number: 20081027-5037.

Comment Date: 5 p.m. Eastern Time on Monday, November 17, 2008.

Docket Numbers: ER09-60-001.

Applicants: Public Service Company of New Mexico.

Description: Certificate of Concurrence of Tri-State Generation and Transmission Association, Inc. under ER09-60.

Filed Date: 10/24/2008.

Accession Number: 20081024-5137.

Comment Date: 5 p.m. Eastern Time on Friday, November 14, 2008.

Docket Numbers: ER09-121-000.

Applicants: Midwest Independent Transmission System.

Description: Midwest Independent Transmission System Operator, Inc. submits a Large Generator Interconnection Agreement with EcoMet Wind, LLC etc.

Filed Date: 10/24/2008.

Accession Number: 20081027-0131.

Comment Date: 5 p.m. Eastern Time on Friday, November 14, 2008.

Docket Numbers: ER09-122-000.

Applicants: Midwest Independent Transmission System.

Description: Midwest Independent Transmission System Operator, Inc submits a Large Generator Interconnection Agreement among enXco Development Corporation, et al.

Filed Date: 10/24/2008.

Accession Number: 20081027-0122.

Comment Date: 5 p.m. Eastern Time on Friday, November 14, 2008.

Docket Numbers: ER09-123-000

Applicants: Midwest Independent Transmission System

Description: Midwest Independent Transmission System Operator, Inc. submits an executed Small Generator Interconnection Agreement with Grant County Wind, LLC etc.

Filed Date: 10/24/2008.

Accession Number: 20081027-0132.

Comment Date: 5 p.m. Eastern Time on Friday, November 14, 2008.

Docket Numbers: ER09-124-000.

Applicants: The American Electric Power Service Corp.

Description: AEP Operating Companies submits a second revision to the Interconnection and Local Delivery Service Agreement 1431 between Village of Wharton and AEP.

Filed Date: 10/24/2008.

Accession Number: 20081027-0123.

Comment Date: 5 p.m. Eastern Time on Friday, November 14, 2008.

Docket Numbers: ER09-125-000.

Applicants: The American Electric Power Service Corp.

Description: AEP Operating Companies submits a second revision to the Interconnection and Local Delivery Service Agreement 1416 with Village of Arcadia under ER09-125.

Filed Date: 10/24/2008.

Accession Number: 20081027-0124.

Comment Date: 5 p.m. Eastern Time on Friday, November 14, 2008.

Docket Numbers: ER09-126-000.

Applicants: The American Electric Power Service Corp.

Description: The American Electric Power Service Corporation submits a second revision to the Interconnection and Local Delivery Service Agreement 1431 between Village of Ohio City and AEP.

Filed Date: 10/24/2008.

Accession Number: 20081027-0125.

Comment Date: 5 p.m. Eastern Time on Friday, November 14, 2008.

Docket Numbers: ER09-127-000.

Applicants: The American Electric Power Service Corp.

Description: AEP Operating Companies submits a second revision to the Interconnection and Local Delivery Service Agreement 1426 with Village of Republic.

Filed Date: 10/24/2008.

Accession Number: 20081027-0126.

Comment Date: 5 p.m. Eastern Time on Friday, November 14, 2008.

Docket Numbers: ER09-128-000.

Applicants: Entergy Services, Inc.

Description: Entergy Arkansas, Inc submits the Thirty-Ninth Amendment to the Power Coordination, Interchange and Transmission Service Agreement between EAI and Arkansas Electric Cooperative Corporation.

Filed Date: 10/24/2008.

Accession Number: 20081027-0127.

Comment Date: 5 p.m. Eastern Time on Friday, November 14, 2008.

Docket Numbers: ER09-129-000.

Applicants: Entergy Services, Inc.

Description: Entergy Gulf States Louisiana, LLC submits Notice of Termination of First Revised Rate Schedule 164 with the City of Caldwell, Texas.

Filed Date: 10/24/2008.

Accession Number: 20081027-0128.

Comment Date: 5 p.m. Eastern Time on Friday, November 14, 2008.

Docket Numbers: ER09-130-000.

Applicants: New York State Electric & Gas Corp.

Description: New York State Electric & Gas Corp submits a supplement to Rate Schedule FERC No. 117 Facilities Agreement.

Filed Date: 10/24/2008.

Accession Number: 20081027-0183.

Comment Date: 5 p.m. Eastern Time on Friday, November 14, 2008.

Docket Numbers: ER09-131-000.

Applicants: Southwest Power Pool, Inc.

Description: Southwest Power Pool, Inc. submits an executed Meter Agent Services Agreement.

Filed Date: 10/24/2008.

Accession Number: 20081027-0184.

Comment Date: 5 p.m. Eastern Time on Friday, November 14, 2008.

Docket Numbers: ER09-132-000.

Applicants: Southwest Power Pool, Inc.

Description: Southwest Power Pool, Inc submits a Large Generator Interconnection Agreement.

Filed Date: 10/24/2008.

Accession Number: 20081027-0185.

Comment Date: 5 p.m. Eastern Time on Friday, November 14, 2008

Docket Numbers: ER09-133-000.

Applicants: Public Service Company of Colorado.

Description: Public Service Co. of Colorado submits a Petition for Approval of Settlement.

Filed Date: 10/24/2008.

Accession Number: 20081027-0188.

Comment Date: 5 p.m. Eastern Time on Friday, November 14, 2008.

Docket Numbers: ER09-134-000; ER09-135-000; ER09-136-000; ER09-137-000.

Applicants: FirstEnergy Solutions Corp.

Description: FE MBR Sellers submits proposed amendments to Market-Based Rate Tariffs Waiving Affiliate Restrictions in Ohio.

Filed Date: 10/24/2008.

Accession Number: 20081027-0186.

Comment Date: 5 p.m. Eastern Time on Friday, November 14, 2008.

Docket Numbers: ER09-147-000.

Applicants: ISO New England Inc., Long Island Power Authority

Description: Request for Expedited Issuance of a Waiver of ISO New England Inc's Financial Assurance Policy.

Filed Date: 10/28/2008.

Accession Number: 20081028-5038.

Comment Date: 5 p.m. Eastern Time on Thursday, November 6, 2008.

Take notice that the Commission received the following electric securities filings:

Docket Numbers: ES09-5-000.

Applicants: North Western Corporation.

Description: Northwestern Corporation submits an application requesting authorization to borrow on a short-term, revolving basis up to a maximum of $200 million in connection with an existing unsecured credit facility.

Filed Date: 10/20/2008.

Accession Number: 20081022-0325.

Comment Date: 5 p.m. Eastern Time on Monday, November 10, 2008.

Docket Numbers: ES09-6-000.

Applicants: Wolverine Power Supply Cooperative, Inc.

Description: Application for Authorization of the Assumption of Liabilities and the Issuances of Securities Under Section 204 of the Federal Power Act.

Filed Date: 10/27/2008.

Accession Number: 20081027-5121.

Comment Date: 5 p.m. Eastern Time on Monday, November 17, 2008.

Take notice that the Commission received the following open access transmission tariff filings:

Docket Numbers: OA08-142-001; ER08-710-001.

Applicants: Puget Sound Energy, Inc.

Description: Puget Sound Energy, Inc. submits Substitute First Revised Sheet 105 and Substitute Second Revised Sheet 105 to its Open Access Transmission Tariff under ER08-710 et al.

Filed Date: 10/27/2008.

Accession Number: 20081027-0129.

Comment Date: 5 p.m. Eastern Time on Monday, November 17, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding.

Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-26312 Filed 11-4-08; 8:45 am]

BILLING CODE 6717-01-P